DEPARTMENT OF THE INTERIOR

Minerals Management Service

Coastal Impact Assistance Program Guidelines

AGENCY: Minerals Management Service, Interior.

ACTION: Notice of Availability of Guidelines.

SUMMARY: The Minerals Management Service (MMS) is issuing this notice to advise the public of the availability of guidelines for the Coastal Impact Assistance Program (CIAP). The guidelines are an important step in the formulation of CIAP.

FOR FURTHER INFORMATION CONTACT: Ms. Colleen Benner, Minerals Management Service, 381 Elden Street, Mail Stop 4040, Herndon, Virginia 20170. You may also contact Ms. Benner by telephone at (703) 787-1710.

SUPPLEMENTARY INFORMATION: The Energy Policy Act of 2005 (EPAct) has created CIAP by amending Section 31 of the Outer Continental Shelf Lands Act (43 U.S.C. 1356a). Under the provisions of the EPAct, the authority and responsibility for the management of CIAP is vested in the Secretary of the Department of the Interior (Secretary). The Secretary has delegated this authority and responsibility to MMS. Under Section 384 of the EPAct, MMS shall disburse $250 million for each Fiscal Year 2007 through 2010 to eligible producing States (State) and coastal political subdivisions (CPS's). The funds allocated to each State are based on the proportion of qualified outer continental shelf (OCS) revenues offshore the individual State to total qualified OCS revenues from all States. In order to receive CIAP's funds, States are required to submit a coastal impact assistance plan (Plan) that MMS must approve prior to disbursing any funds. All funds shall be disbursed through a grant process. This guidance has been developed by MMS to provide the information necessary for States to develop a Plan and submit it to MMS. Digital copies of these guidelines may be found on the MMS Web site at http://www.mms.gov/offshore/CIAPmain.htm.

Dated: September 6, 2006.
R.M. “Johnnie” Burton,
Director, Minerals Management Service.

[FR Doc. E6-16090 Filed 9-28-06; 8:45 am]

BILLING CODE 4310-MR-P